DEPARTMENT OF ENERGY

Federal Energy Regulatory Commission

[Docket No. EC04-32-000, et al.]

RWE Trading Americas Inc., et al.; Electric Rate and Corporate Filings

December 8, 2003.

The following filings have been made with the Commission. The filings are listed in ascending order within each docket classification.

1. RWE Trading Americas Inc., UBS AG

[ Docket No. EC04-32-00]

Take notice that on December 3, 2003, RWE Trading Americas Inc. (RWE Trading) and UBS AG (together, the Applicants) filed a joint application pursuant to section 203 of the Federal Power Act for disposition of all of the wholesale power sales contracts of RWE Trading to UBS AG. The Applicants further request confidential treatment of Exhibits H and I to the application pursuant to section 388.112 of the Commission's rules. The Applicants request that the Commission act on the application so that the transfer may be consummated before January 1, 2004.

Comment Date: December 23, 2003.

2. WFEC GENCO, L.L.C.

[ Docket No. ER01-388-002]

Take notice that on December 1, 2003, WFEC GENCO, L.L.C. (GENCO) tendered for filing, (1) an updated market power analysis in compliance with the Commission's order authorizing GENCO to engage in wholesale sales of electric power at market-based rates; and (2) an amendment to its market-based rate tariff to adopt the Commission's new Market Behavior Rules.

Comment Date: December 22, 2003.

3. International Transmission Company, DTE Energy Company

[Docket Nos. ER01-3000-008; RT01-101-008; EC01-146-008]

Take notice that on December 2, 2003, International Transmission Company and DTE Energy Company tendered a filing in compliance with the November 17, 2003, Commission's Order, 105 FERC ¶ 61,209 (2003).

Comment Date: December 23, 2003.

4. Bank of America, N.A.

[Docket No. ER02-2536-001]

Take notice that on December 1, 2003, Bank of America, N.A. (Bank of America) tendered for filing First Revised Sheet No. 1 and Original Sheet Nos. 2-3 in compliance with FERC's Order Amending Market-Based Rate Tariffs and Authorizations, Investigation of Terms and Conditions of Public Utility Market-Based Rate Authorizations, 105 FERC ¶ 61,218 (Nov. 17, 2003), and FERC's Order Conditionally Accepting Market-Based Rate Schedule, 101 FERC ¶ 61,098 (Oct. 30, 2002). These sheets contain the “Market Behavior Rules” amendment required by the November 17 Order.

Comment Date: December 22, 2003.

5. The Detroit Edison Company

[Docket No. ER03-19-003]

Take notice that on December 2, 2003, The Detroit Edison Company (Detroit Edison) tendered for filing a revised agency agreement between Midwest Independent System Operator, Inc., and Detroit Edison in compliance with Commission's Order, November 17, 2003, 105 FERC ¶ 61,209.

Comment Date: December 23, 2003.

6. MxEnergy Electric Inc.

[Docket No. ER04-170-001]

Take notice that on December 2, 2003, MxEnergy Electric Inc. submitted for filing a revised rate schedule, modifying the rate schedule submitted on November 6, 2003 in Docket No. ER04-170-000.

Comment Date: December 23, 2003.

7. Citigroup Energy Inc.

[ Docket No. ER042-08-001]

Take notice that on December 1, 2003, Citigroup Energy Inc. (CEI) submitted for filing a revised rate Schedule, FERC Volume 1, modifying the Market-based rate schedule submitted by CEI on November 19, 2003.

Comment Date: December 22, 2003.

8. AK Electric Supply LLC

[Docket No. ER04-213-001]

Take notice that on December 3, 2003, AK Electric Supply LLC (AK) filed a supplement to its application for market-based rates as power marketer. AK states that the supplement pertains to an amended and corrected Rate Schedule to comply with FERC Order 614.

Comment Date: December 24, 2003.

9. Xcel Energy Services Inc.

[Docket No. ER04-243-000]

Take notice that on December 1, 2003, Xcel Energy Services, Inc. (XES), on behalf of Public Service Company of Colorado (PSC), submitted for filing a Notice of Cancellation of a Power Purchase Agreement between Public Service Company of Colorado and the City of Glenwood Springs.

XES requests that this Notice of Cancellation become effective as of the date of this filing.

Comment Date: December 22, 2003.

10. Central Vermont Public Service Corporation

[Docket No. ER04-244-000]

Take notice that on December 1, 2003, Central Vermont Public Service Corporation (CVPS) tendered for filing a letter stating that CVPS will not file a Forecast 2004 Cost Report as required under Paragraph Q-2 of Rate Schedule FERC No. 135 (RS-2 Rate Schedule) under which CVPS sells electric power to Connecticut Valley Electric Company Inc. (Customer), its wholly owned subsidiary. CVPS states that:

(1) The Customer is selling its assets and franchise to Public Service of New Hampshire; and (2) CVPS and the Customer are terminating the RS-2 Rate Schedule, all effective January 1, 2004. CVPS further states that since these transactions are highly likely to occur, no service under the RS-2 Rate Schedule will be provided or taken, and thus the filing of a cost report will serve no useful purpose.

CVPS states that copies of the filing were served upon the Customer, the New Hampshire Public Utilities Commission, and the Vermont Public Service Board.

Comment Date: December 22, 2003.

11. Central Vermont Public Service Corporation

[Docket No. ER04-245-000]

Take notice that on December 1, 2003, Central Vermont Public Service Corporation (CVPS) tendered for filing a letter stating that CVPS will not file a Forecast 2004 Cost Report for FERC Electric Tariff, Original Volume No. 3. CVPS states that no customers will take Tariff No. 3 transmission service during 2002 because such service was terminated effective December 31, 1999. CVPS provides transmission service under its FERC Electric Tariff, First Revised Volume No. 7.

CVPS states that copies of the filing were served upon the Vermont Public Service Board and the New Hampshire Public Utilities Commission.

Comment Date: December 22, 2003.

12. Central Vermont Public Service Corporation

[Docket No. ER04-246-000]

Take notice that on December 1, 2003, Central Vermont Public Service Corporation (CVPS) tendered for filing a letter stating that CVPS will not file a Forecast 2004 Cost Report for FERC Electric Tariff, Original Volume No. 4, since there are no customers expected to take such service.

CVPS states that a copy of the filing was served upon the Vermont Public Service Board.

Comment Date: December 22, 2003.

13. Midwest Independent Transmission System Operator, Inc.

[Docket No. ER04-247-000]

Take notice that on December 1, 2003, the Midwest Independent Transmission System Operator, Inc. (Midwest ISO) submitted for filing proposed revisions to Attachment J (Timing Requirements) of the Midwest ISO Open Access Transmission Tariff, FERC Electric Tariff, Second Revised Volume No. 1, to implement changes in the timing requirements of Attachment J. The Midwest ISO has requested an effective date of January 30, 2004.

The Midwest ISO states it has electronically served a copy of this filing, with attachments, upon all Midwest ISO Members, Member representatives of Transmission Owners and Non-Transmission Owners, the Midwest ISO Advisory Committee participants, as well as all state commissions within the region and in addition, the filing has been electronically posted on the Midwest ISO's Web site at www.midwestiso.org under the heading “Filings to FERC” for other interested parties in this matter. The Midwest ISO further states it will provide hard copies to any interested parties upon request.

Comment Date: December 22, 2003.

14. Michigan Electric Transmission Company, LLC

[Docket No. ER04-248-000]

Take notice that on December 2, 2003, Michigan Electric Transmission Company, LLC (METC) submitted proposed amendments to the following agreements: (1) “Project I Transmission Ownership and Operating Agreement Between Consumers Power Company and Michigan South Central Power Agency,” dated November 20, 1980; (2) “Campbell Unit No. 3 Transmission Ownership and Operating Agreement Between Consumers Power Company and Northern Michigan Electric Cooperative, Inc. and Wolverine Electric Cooperative, Inc.,” dated August 15, 1980; (3) “Campbell Unit No. 3 Transmission Ownership and Operating Agreement Between Consumers Power Company and Michigan Public Power Agency,” dated October 1, 1979; (4) “Belle River Transmission Ownership and Operating Agreement Between Consumers Power Company and Michigan Public Power Agency,” dated December 1, 1982; and (5) “Wolverine Transmission Ownership and Operating Agreement Between Consumers Power Company and Wolverine Power Supply Cooperative, Inc.,” dated July 27, 1992 (collectively, the Customers and the Operating Agreements). METC states that the proposed amendments are intended to revise portions of the Operating Agreements to reflect certain changes necessary as a result of the acquisition of Consumers' transmission system by METC. METC requests an effective date of November 1, 2003, for the proposed amendments.

Comment Date: December 23, 2003.

15. Dominion Retail, Inc.

[Docket No. ER04-249-000]

Take notice that on December 2, 2003, Dominion Retail, Inc. (Dominion Retail), an indirect wholly owned subsidiary of Dominion Resources, Inc. an affiliate of Virginia Electric and Power Company, tendered for filing a rate schedule to engage in wholesale sales at market-based rates and a petition for waivers and blanket approvals under various regulations of the Commission. Dominion Retail states that it included in its filing a proposed code of conduct.

Comment Date: December 23, 2003.

16. California Independent System Operator Corporation

[ Docket No. ER04-250-000]

Take notice that on December 2, 2003, the California Independent System Operator Corporation (ISO), tendered for filing a revised Participating Generator Agreement between the ISO and the California Department of Water Resources (CDWR) for acceptance by the Commission. The ISO states that the purpose of this revision is to conform Schedule 1 of the Participating Generator Agreement to the ISO's new format for specification of the technical characteristics of a Generating Unit, and to add certain units and remove certain units from this Schedule.

The ISO states that this filing has been served on CDWR, the California Public Utilities Commission, and all entities that are on the official service list for Docket No. ER99-3413.

The ISO is requesting a waiver of the 60-day prior notice requirement to allow the revised Schedule 1 to be made effective as of June 2, 2003, the date on which CDWR delivered to the ISO the request that the Schedule 1 be revised.

Comment Date: December 23, 2004.

17. California Independent System Operator Corporation

[Docket No. ER04-251-000]

Take notice that on December 2, 2003, the California Independent System Operator Corporation (ISO), tendered for filing a revised Participating Generator Agreement between the ISO and Northern California Power Agency (NCPA) for acceptance by the Commission. The ISO states that the purpose of this revision is to conform Schedule 1 of the Participating Generator Agreement to the ISO's new format for specification of the technical characteristics of a Generating Unit.

The ISO states that this filing has been served on NCPA, the California Public Utilities Commission, and all entities that are on the official service list for Docket No. ER00-2274.

The ISO is requesting a waiver of the 60-day prior notice requirement to allow the revised Schedule 1 to be made effective as of August 22, 2003, the date on which NCPA delivered to the ISO the request that the Schedule 1 be revised.

Comment Date: December 23, 2003.

18. Midwest Independent Transmission System Operator, Inc.

[Docket No. ER04-252-000]

Take notice that on December 3, 2003, Midwest Independent Transmission System Operator, Inc. (Midwest ISO) pursuant to section 205 of the Federal Power Act and section 35.12 of the Commission's regulations, 18 CFR part 35, submitted for filing an Interconnection and Operating Agreement among Kentucky Utilities Company, the Midwest ISO, and Cannelton Hydroelectric Project, L.P.

Midwest ISO states that a copy of this filing was served on all parties.

Comment Date: December 24, 2003.

19. Midwest Independent Transmission System Operator, Inc.

[Docket No. ER04-253-000]

Take notice that on December 3, 2003, Midwest Independent Transmission System Operator, Inc. (Midwest ISO) pursuant to section 205 of the Federal Power Act and section 35.12 of the Commission's regulations, 18 CFR 35.12, submitted for filing an Interconnection and Operating Agreement between Wabash Valley Power Association, Inc. and the Midwest ISO.

Midwest ISO states that a copy of this filing was served on Wabash Valley Power Association, Inc.

Comment Date: December 23, 2003.

20. Ameren Services Company

[Docket No. ER04-254-000]

Take notice that on December 3, 2003, Ameren Services Company (ASC) tendered for filing a Service Agreement for Network Integration Transmission Service Agreement and an associated Network Operating Agreement between ASC and Edgar Electric Cooperative Association, d/b/a EnerStar Power Corp. ASC asserts that the purpose of the Agreements are to permit ASC to provide transmission service to Edgar Electric Cooperative Association, d/b/a EnerStar Power Corp. pursuant to Ameren's Open Access Transmission Tariff.

Comment Date: December 23, 2003.

21. Midwest Independent Transmission System Operator, Inc.

[Docket No. ER04-256-000]

Take notice that on December 4, 2003, Midwest Independent Transmission System Operator, Inc. (Midwest ISO) pursuant to section 205 of the Federal Power Act and section 35.12 of the Commission's regulations, 18 CFR 35.12, submitted for filing an Interconnection and Operating Agreement among Northern Iowa Windpower II, LLC, the Midwest ISO and Interstate Power and Light Company, a wholly-owned subsidiary of Alliant Energy Corporation.

Midwest ISO states that a copy of this filing was served on all parties.

Comment Date: December 26, 2003.

22. Southern California Edison Company

[Docket No. ER04-257-000]

Take notice, that on December 4, 2003, Southern California Edison Company (SCE) tendered for filing the Service Agreement for Wholesale Distribution Service (Service Agreement) between SCE and the City of Corona, California (Corona). The Service Agreement sets forth SCE's agreement to provide Distribution Service from the ISO Grid at Mira Loma Substation to a proposed new SCE-Corona 12 kV interconnection. SCE requests that the Service Agreement become effective on November 14, 2003.

SCE states that copies of this filing were served upon the Public Utilities Commission of the State of California, and Corona.

Comment Date: December 26, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00562 Filed 12-15-03; 8:45 am]

BILLING CODE 6717-01-P